DEPARTMENT OF DEFENSE

GENERAL SERVICES ADMINISTRATION

NATIONAL AERONAUTICS AND SPACE ADMINISTRATION

48 CFR Part 52

[FAC 2001-09; FAR Case 2001-012; Item V]

RIN 9000-AJ22

Federal Acquisition Regulation; Payments Under Fixed-Price Construction Contracts

Correction

In rule document 02-21871 beginning on page 56124 in the issue of Friday August 30, 2002, make the following correction:

PART 52—[CORRECTED]

On page 56126, in the first column, in the seventh line from the bottom, the section heading should read “52.232-5 Payments Under Fixed-Price Construction Contracts”.

[FR Doc. C2-21871 Filed 9-10-02; 8:45 am]

BILLING CODE 1505-01-D

DEPARTMENT OF HEALTH AND HUMAN SERVICES

Food and Drug Administration

[Docket No. 00D-0053]

Determining Hospital Procedures for Opened-But-Unused, Single-Use Medical Devices; Request for Comments and Information

Correction

In notice document 02-21891 beginning on page 55269 in the issue of Wednesday, August 28, 2002 make the following correction:

On page 55270, in the first column, in the sixth full paragraph, in the fifth and sixth lines, “[insert date 90 days after date of publication in the Federal Register]” should read “ November 26, 2002”.

[FR Doc. C2-21891 Filed 9-10-02; 8:45 am]

BILLING CODE 1505-01-D

DEPARTMENT OF LABOR

Mine Safety and Health Administration

30 CFR Parts 42, 46, 47, 48, 56, 57, and 77

RIN 1219-AA47

Hazard Communication (HazCom)

Correction

In rule document 02-15396 beginning on page 42314 in the issue of June 21, 2002, make the following corrections:

1. On page 42320, in footnote 3, “The Small Business Regulation Enforcement Fairness Act of 1996 (SBREFA)” should read “The Small Business Regulatory Enforcement Fairness Act of 1996 (SBREFA)”.

2. On page 42320, in footnote 4, “The unfunded Mandates from Act of 1995” should read “The Unfunded Mandates Reform Act of 1995”.

3. On page 42349, in the first column in the 6th paragraph in the 10th line “ACGIH TLV”” should read “ACGIH TLV®”.

4. On page 42375, in the table, under the heading “Mine type”, the third line, “Coal Mine” should read “Coal Contractor”.

§47.11 [Corrected]

5. On page 42383, §47.11, in Table 47.11—DEFINITIONS, under the first column “Term”, at “Health hazard”, and under the second column “Definition for purposes of HazCom”, in the second line, “Health hazard” should read “Health hazard”.

§47.32 [Corrected]

6. On page 42385,ÿ7E § 47.32(c)(2), “Informing other operators about'” should read “Informing other operators about—”.

§47.52 [Corrected]

7. On page 42386, §47.52, in Table 47.52—CONTENTS OF MSDS, under column “Category”, at “(3) Physical” and under column “Requirements, descriptions, and exceptions”, the fifth and sixth lines, the entry is corrected to read “The physical hazards of the chemical including the potential for fire, explosion, and reactivity”.

§47.92 [Corrected]

8. On page 42388, §47.92, in Table 47.92—HAZARDOUS CHEMICALS EXEMPT FROM LABELING, under the heading “Conditions for exemption”, in the eighth line, “§47.21, Identifying hazardous chemicals” should read § 47.21—Identifying hazardous chemicals.

[FR Doc. C2-15396 Filed X-XX-02; 8:45 am]

BILLING CODE 1505-01-D

DEPARTMENT OF TRANSPORTATION

Research and Special Programs Administration

49 CFR Part 172

[Docket No. RSPA-98-3971 (HM-226)]

RIN 2137-AD13

Hazardous Materials: Revision to Standards for Infectious Substances

Correction

In rule document 02-20118 beginning on page 53118 in the issue of Wednesday, August 14, 2002 make the following correction:

§172.101 [Corrected]

On page 53134, in the table, §172.101.—Hazardous Materials Table, under the heading “Special provisions”, the second and third lines from the bottom should read “A81, A82”.

[FR Doc. C2-20118 Filed 9-10-02; 8:45 am]

BILLING CODE 1505-01-D